DEPARTMENT OF HEALTH AND HUMAN SERVICES

Centers for Medicare & Medicaid Services

Privacy Act of 1974; Retraction of a Modified System of Records

AGENCY: Department of Health and Human Services (HHS), Centers for Medicare & Medicaid Services (CMS).

ACTION: Notice of Retraction of a Modified System of Records.

SUMMARY: The Centers for Medicare & Medicaid Services CMS inadvertently published a modification to its existing system of records titled “Medicare Drug Data Processing System (DDPS)” System No. 09-70-0553 in the Federal Register on Thursday, February 22, 2007 (72 FR 7993). CMS is withdrawing the February 22, 2007 modification to the DDPS system of records pending the conclusion of rulemaking that will support the routine uses of data contained in the system of records. The existing notice established at 70 FR 58436 (October 6, 2005) will remain the effective notice for the DDPS system of records.

FOR FURTHER INFORMATION CONTACT: Inquiries may be directed to: CMS Privacy Officer, Division of Privacy Compliance, Enterprise Architecture and Strategy Group, Office of Information Services, CMS, Room N2-04-27, 7500 Security Boulevard, Baltimore, Maryland 21244-1850. He can also be reached at 410-786-5357 or by e-mail at walter.stone@cms.hhs.gov.

Dated: February 28, 2007.
William Saunders,
Acting Deputy Director, Office of Information Services, Centers for Medicare & Medicaid Services.

[FR Doc. E7-4133 Filed 3-7-07; 8:45 am]

BILLING CODE 4120-03-P